DEPARTMENT OF TRANSPORTATION

Federal Aviation Administration

14 CFR Part 73

[Docket No. FAA-2017-0585; Airspace Docket No. 17-ASO-13]

Amendment of Multiple Restricted Areas; Townsend, GA

AGENCY: Federal Aviation Administration (FAA), DOT.

ACTION: Final rule.

SUMMARY: This action updates the using agency information for restricted areas R-3007A, R-3007B, R-3007C, and R-3007D, Townsend, GA. This is an administrative change to reflect the current organization tasked with using agency responsibilities for the restricted areas. It does not affect the boundaries, designated altitudes, time of designation or activities conducted within the restricted areas.

DATES: Effective date: 0901 UTC, October 12, 2017.

FOR FURTHER INFORMATION CONTACT: Sean Hook, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it updates the using agency for restricted areas R-3007A, R-3007B, R-3007C, and R-3007D, Townsend, GA, to reflect the current organization responsible for the restricted areas.

The Rule

This rule amends title 14 Code of Federal Regulations (14 CFR) part 73 by updating the using agency name for restricted areas R-3007A, R-3007B, R-3007C, and R-3007D, Townsend, GA, by removing the words “ANG, Savannah Combat Readiness Training Center, GA” and adding the words “USMC, Marine Corps Air Station Beaufort, SC.” The name change reflects the current organization assigned using agency responsibilities for the restricted areas. This is an administrative change that does not affect the boundaries, designated altitudes, or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of updating the using agency information for restricted areas R-3007A, R-3007B, R-3007C, and R-3007D, Townsend, GA qualifies for categorical exclusion under the National Environmental Policy Act in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change to the using agency names for restricted areas R-3007A, R-3007B, R-3007C, and R-3007D to update the using agency name. It does not alter the dimensions, altitudes, time of designation, or use of the airspace. Therefore, this airspace action is not expected to result in any significant environmental impacts. In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.30 [Amended]

2. § 73.30 is amended as follows:

* * * * *

R-3007A Townsend, GA [Amended]

* * * * *

By removing “Using agency. ANG, Savannah Combat Readiness Training Center, GA,” and adding in its place “Using agency. USMC, Marine Corps Air Station Beaufort, SC.”

R-3007B Townsend, GA [Amended]

* * * * *

By removing “Using agency. ANG, Savannah Combat Readiness Training Center, GA,” and adding in its place “Using agency. USMC, Marine Corps Air Station Beaufort, SC.”

R-3007C Townsend, GA [Amended]

* * * * *

By removing “Using agency. ANG, Savannah Combat Readiness Training Center, GA,” and adding in its place “Using agency. USMC, Marine Corps Air Station Beaufort, SC.”

R-3007D Townsend, GA [Amended]

* * * * *

By removing “Using agency. ANG, Savannah Combat Readiness Training Center, GA,” and adding in its place “Using agency. USMC, Marine Corps Air Station Beaufort, SC.”

Issued in Washington, DC, on June 21, 2017.
Rodger A. Dean, Jr.,
Manager, Airspace Policy Group.

[FR Doc. 2017-13456 Filed 6-27-17; 8:45 am]

BILLING CODE 4910-13-P